DEPARTMENT OF ENERGY

Federal Energy Regulatory Commission

[Docket Nos. CP16-454-000; CP16-454-001]

Rio Grande LNG, LLC; Notice of Request for Extension of Time

Take notice that on April 6, 2022, Rio Grande LNG, LLC (RGLNG), requested that the Federal Energy Regulatory Commission (Commission) grant an extension of time, until November 22, 2028, to complete construction of the Rio Grande LNG Terminal (RGLNG Terminal) and make it available for service as authorized in the November 22, 2019 Order Granting Authorizations Under Sections 3 and 7 of the Natural Gas Act (Order).¹

¹ Rio Grande LNG, LLC, 169 FERC ¶ 61,131 (2019), order on reh'g, 170 FERC ¶ 61,046 (2020).

The RGLNG Terminal, located on the northern embankment of the Brownsville Ship Channel in Cameron County, Texas, would consist of five natural gas liquefaction trains, and be capable of exporting up to approximately 27 million metric tons per annum year of liquefied natural gas (LNG).² On November 17, 2021, RGLNG filed an application with Commission under Section 3 of the NGA to amend its November 22, 2019 authorization to incorporate carbon capture and sequestration (CCS) systems into the design of the RGLNG Terminal.³ This amendment application is still pending with the Commission. The Order required RGLNG to complete construction of the RGLNG Terminal and make it available for service within seven years of the date of the Order, or by November 22, 2026.

² The November 22 Order also approved a request by Rio Bravo Pipeline Company, LLC (Rio Bravo), under section 7 of the NGA (CP16-455-000), to construct and operate a new pipeline system (Rio Bravo Pipeline Project) comprised of two parallel 42-inch-diameter natural gas pipelines approximately 135.5 miles long, three 180,000 horsepower (hp) compressor stations, an approximately 2.4-mile-long pipeline header system, and appurtenant facilities to transport natural gas to the RGLNG Terminal for processing, liquefaction, and export. Id.

³ Rio Grande LNG, LLC, Application of Rio Grande LNG, LLC for Limited Amendment to NGA Section 3 Authorization, Docket No. CP22-17-000.

RGLNG states that despite its diligent efforts to place the RGLNG Terminal into service by the Order deadline, RGLNG was impacted by unforeseeable developments in the global LNG market as a result of the COVID-19 pandemic, including major disruptions in world energy markets. As a result, RGLNG has been unable to enter into long-term contracts with customers sufficient to enable it to reach a final investment decision (FID), as well as other logistical challenges. Therefore, RGLNG requests that the Commission extend the Order's deadline for construction and operation by two years until November 22, 2028 so that it can continue to pursue long term contracts with certainty and without fear of interruption.

This notice establishes a 15-calendar day intervention and comment period deadline. Any person wishing to comment on the Applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on April 27, 2022.

Dated: April 12, 2022.
Debbie-Anne A. Reese,
Deputy Secretary.

[FR Doc. 2022-08237 Filed 4-15-22; 8:45 am]

BILLING CODE 6717-01-P